ENVIRONMENTAL PROTECTION AGENCY

40 CFR Part 52

[EPA-R06-OAR-2018-0811; FRL-9997-58-Region 6]

Air Plan Approval; Texas; Control of Air Pollution From Motor Vehicles

AGENCY: Environmental Protection Agency (EPA).

ACTION: Partial withdrawal of direct final rule.

SUMMARY: The Environmental Protection Agency (EPA) is withdrawing a portion of a direct final rule published on June 6, 2019, because relevant adverse comments were received. The rule pertained to EPA approval of revisions to the Texas State Implementation Plan (SIP) submitted by the Texas Commission on Environmental Quality. The revisions remove rules from the Texas SIP that address motor vehicle anti-tampering requirements and the Low Income Repair Assistance Program (LIRAP) for certain participating counties. In a separate subsequent final rulemaking, EPA will address the portion of the direct final rule on which relevant adverse comments were received.

DATES: Effective August 13, 2019, the EPA withdraws amendatory instruction 2 from the direct final rule published on June 6, 2019, at 84 FR 26349.

FOR FURTHER INFORMATION CONTACT: Carrie Paige, EPA Region 6 Office, 214-665-6521, paige.carrie@epa.gov.

SUPPLEMENTARY INFORMATION: Throughout this document “we,” “us,” and “our” means the EPA. On June 6, 2019, we published a direct final rule to approve revisions to the Texas SIP to remove two rules from the Texas SIP. The revisions remove 30 TAC 114, Subchapter B (the Motor Vehicle Anti-tampering Requirements) in its entirety; and 30 TAC 114, Section 114.86 (the LIRAP for Participating Early Action Compact (EAC) Counties) from the SIP (see 84 FR 26349, June 6, 2019). The direct final rule was published without prior proposal because we anticipated no adverse comments. We stated in the direct final rule that if we received relevant adverse comments by July 8, 2019, we would publish a timely withdrawal in the Federal Register. We received relevant adverse comments on the portion of the direct final rule regarding our approval of revisions to the Texas SIP to remove rules from the Texas SIP that address the LIRAP for Participating EAC Counties at 30 TAC 114, Section 114.86 and accordingly are withdrawing that portion of the direct final rule on which adverse comments were received. In a separate subsequent final rulemaking, we will address the comments received. The portion of the direct final rule approving revisions to remove 30 TAC 114, Subchapter B (the Motor Vehicle Anti-tampering Requirements) ¹ in its entirety from the Texas SIP received only supportive comments and will be effective on September 4, 2019, as provided in the direct final action at 84 FR 26349.

¹ Due to an apparent oversight, 30 TAC 114 Subchapter B (Motor Vehicle Anti-Tampering Requirements) was not included in Table (c) “EPA Approved Regulations in the Texas SIP” at 40 CFR 52.2270, so there is no amendatory instruction in the direct final rule to remove those provisions.

List of Subjects in 40 CFR Part 52

Environmental protection, Air pollution control, Incorporation by reference, Ozone, Volatile organic compounds.

Dated: August 1, 2019.
David Gray,
Acting Regional Administrator, Region 6.

Accordingly, amendatory instruction 2 from the direct final rule published in the Federal Register on June 6, 2019 (84 FR 26349), which was to become effective on September 4, 2019, is withdrawn.

[FR Doc. 2019-16934 Filed 8-12-19; 8:45 am]

BILLING CODE 6560-50-P